DEPARTMENT OF ENERGY

Federal Energy Regulatory Commission

[Docket No. RM02-16-000]

Hydroelectric Licensing Under the Federal Power Act; Notice of Corrections Published in Federal Register

November 18, 2003.

On July 23, 2003, the Commission issued Order No. 2002, Final Rule, in Docket No. RM02-16-000, 104 FERC ¶ 61,109.

On October 30, 2003, the Federal Register published corrections to the Final Rule at Volume 68, Number 210, Pages 61742-61743.

On November 7, 2003, the Federal Register published editorial corrections to its October 30, 2003 issue at Volume 68, Number 216, Page 63194.

Magalie R. Salas,
Secretary.

[FR Doc. E3-00376 Filed 11-24-03; 8:45 am]

BILLING CODE 6717-01-P